DEPARTMENT OF COMMERCE

Submission for OMB Review; Comment Request

The Department of Commerce will submit to the Office of Management and Budget (OMB) for clearance the following proposal for collection of information under the provisions of the Paperwork Reduction Act (44 U.S.C. chapter 35).

Agency: Economic Development Administration (EDA), Department of Commerce.

Title: Property Management.

OMB Control Number: 0610-0103.

Form Number(s): None.

Type of Request: Ad hoc submission (only when a recipient makes a request).

Number of Respondents: 150 (54 incidental use requests; 96 for requests to release EDA's Property interest).

Average Hours per Response: 45 minutes.

Burden Hours: 413.

Needs and Uses: A recipient must request in writing EDA's approval to undertake an incidental use of property acquired or improved with EDA's investment assistance (see 13 CFR 314.3 of EDA's regulations). This collection of information allows EDA to determine whether an incidental use of property acquired or improved with EDA investment assistance is appropriate. If a recipient wishes EDA to release its real property or tangible personal property interests before the expiration of the property's estimated useful life, the recipient must submit a written request to EDA and disclose to EDA the intended future use of the real property or the tangible personal property for which the release is requested (see 13 CFR 314.10 of EDA's regulations). This collection of information allows EDA to determine whether to release its real property or tangible personal property interests.

Affected Public: Current recipients of EDA construction (Public Works or Economic Adjustment) assistance, to include (1) cities or other political subdivisions of a state, including a special purpose unit of state or local government engaged in economic or infrastructure development activities, or a consortium of political subdivisions; (2) states; (3) institutions of higher education or a consortium of institutions of higher education; (4) public or private non-profit organizations or associations; (5) District Organizations; and (6) Indian Tribes or a consortia of Indian Tribes.

Frequency: Ad hoc.

Respondent's Obligation: Required to release EDA's property interest.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Lead, Office of the Chief Information Officer.

[FR Doc. 2015-16597 Filed 7-6-15; 8:45 am]

BILLING CODE 3510-34-P